DEPARTMENT OF LABOR

Employment and Training Administration

[TA-W-50,491]

Kulicke & Soffa—K&S, Austin, TX; Notice of Termination of Investigation

Pursuant to section 221 of the Trade Act of 1974, an investigation was initiated on January 6, 2003, in response to a petition filed on behalf of workers at K&S Kulicke & Soffa, Austin, Texas.

This investigation revealed that the petitioner submitting the petition is not a duly authorized representative. The petition has therefore been deemed invalid. Consequently, the investigation has been terminated.

Signed in Washington, DC, this 13th day of February 2003.
Richard Church,
Certifying Officer, Division of Trade Adjustment Assistance.

[FR Doc. 03-5546 Filed 3-7-03; 8:45 am]

BILLING CODE 4510-30-P